DEPARTMENT OF DEFENSE

GENERAL SERVICES ADMINISTRATION

NATIONAL AERONAUTICS AND SPACE ADMINISTRATION

[OMB Control No. 9000-0161; Docket No. 2013-0077; Sequence No. 12]

Federal Acquisition Regulation; Submission for OMB Review; Reporting Purchases From Sources Outside the United States

AGENCY: Department of Defense (DoD), General Services Administration (GSA), and National Aeronautics and Space Administration (NASA).

ACTION: Notice of request for public comments regarding an extension, with changes, to an existing OMB clearance.

SUMMARY: Under the provisions of the Paperwork Reduction Act of 1995 (44 U.S.C. Chapter 35), the Regulatory Secretariat will be submitting to the Office of Management and Budget (OMB) a request to review and approve an extension of a currently approved information collection requirement concerning reporting purchases from sources outside the United States. A notice was published in the Federal Register at 78 FR 56230, on September 12, 2013. No comments were received.

DATES: Submit comments on or before January 17, 2014.

ADDRESSES: Submit comments identified by Information Collection 9000-0161, Reporting Purchases from Sources Outside the United States, by any of the following methods:

• Regulations.gov: http://www.regulations.gov. Submit comments via the Federal eRulemaking portal by searching for “9000-0161; Reporting of Purchases from Outside the United States”. Select the link “Submit a Comment” that corresponds with “9000-0161; Reporting of Purchases from Outside the United States”. Follow the instructions provided at the “Submit a Comment” screen. Please include your name, company name (if any), and 9000-0161; Reporting of Purchases from Outside the United States” on your attached document.

• Fax: 202-501-4067.

• Mail: General Services Administration, Regulatory Secretariat (MVCB), 1800 F Street NW., 2nd floor, Washington, DC 20405-0001. ATTN: Hada Flowers/IC 9000-0161.

Instructions: Please submit comments only and cite IC 9000-0161, in all correspondence related to this case. All comments received will be posted without change to http://www.regulations.gov, including any personal and/or business confidential information provided.

FOR FURTHER INFORMATION CONTACT: Ms. Cecelia L. Davis, Program Analyst, at 202-219-0202. For information pertaining to status or publication schedules, contact the Regulatory Secretariat at 202-501-4755.

SUPPLEMENTARY INFORMATION:

A. Purpose

The information on place of manufacture was formerly used by each Federal agency to prepare a report to Congress required by 41 U.S.C. 8302(b)(1) for Fiscal Year 2009 through 2011 on acquisitions of articles, materials, or supplies that are manufactured outside the United States. However, the data is still necessary for analysis of the application of the Buy American statue and the trade agreements and for other reports to Congress. Additionally, contracting officers require this data as the basis for entry into the Federal Procurement Data System for further data on the rationale for purchasing foreign manufactured items.

B. Annual Reporting Burden

Respondents | 170,822
Responses per respondent per year | × 10
Total annual responses (rounded) | 1,708,220
Hours per response | 0.01
Total response burden hours | 17,082

Obtaining Copies of Proposals: Requesters may obtain a copy of the information collection documents from the General Services Administration, Regulatory Secretariat (MVCB), 1800 F Street NW., 2nd floor, Washington, DC 20405-0001, telephone 202-501-4755. Please cite OMB Control Number 9000-0161, Reporting Purchases from Sources Outside the United States, in all correspondence.

Dated: December 12, 2013.
Karlos Morgan, Sr.,
Acting Director, Federal Acquisition Policy Division, Office of Government-wide Acquisition Policy, Office of Acquisition Policy, Office of Government-Wide Policy.

[FR Doc. 2013-30070 Filed 12-17-13; 8:45 am]

BILLING CODE 6820-EP-P